DEPARTMENT OF TRANSPORTATION

Federal Aviation Administration

14 CFR Part 39

[Docket No. FAA-2012-1015; Directorate Identifier 2007-SW-069-AD]

RIN 2120-AA64

Airworthiness Directives; Eurocopter France Helicopters

AGENCY: Federal Aviation Administration (FAA), DOT.

ACTION: Notice of proposed rulemaking (NPRM).

SUMMARY: We propose to adopt a new airworthiness directive (AD) for the Eurocopter France (Eurocopter) Model AS332C, AS332L, and AS332L1 helicopters. This proposed AD is prompted by reports of electro-valve power supply disruptions while a helicopter is on the ground, causing the landing gear to retract and the helicopter nose to drop. This results in damage to the forward section of the helicopter's bottom structure. This proposed AD would require modifying the main landing gear control panel (control panel) 33G, connector 100G, and wiring. It also would require tests to ensure that these modifications function correctly. We propose this AD to prevent an uncommanded landing gear retraction that would cause the helicopter nose to drop and hit the ground while the rotor blades are spinning.

DATES: We must receive comments on this proposed AD by November 26, 2012.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact American Eurocopter Corporation, 2701 N. Forum Drive, Grand Prairie, TX 75052, telephone (972) 641-0000 or (800) 232-0323, fax (972) 641-3775, or at http://www.eurocopter.com/techpub. You may review a copy of the referenced service information at the FAA, Office of the Regional Counsel, Southwest Region, 2601 Meacham Blvd., Room 663, Fort Worth, Texas 76137.

FOR FURTHER INFORMATION CONTACT: George Schwab, Aviation Safety Engineer, FAA, Rotorcraft Directorate, Safety Management Group, 2601 Meacham Blvd., Fort Worth, Texas, 76137; telephone: (817) 222-5114; fax: (817) 222-5961; email: george.schwab@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Union, has issued AD No. 2006-0152, dated May 30, 2006 (AD 2006-0152), to correct an unsafe condition for the Eurocopter Model AS 332 C, AS 332 C1, AS 332 L, and AS 332 L1 helicopters with a control panel 33G, part number (P/N) 332A67-1623-00, -06, -0610, or -0651. EASA advises of electro-valve power supply disruptions, which caused the landing gear to retract and the helicopter to drop, resulting in damage to the forward section of the helicopter's bottom structure. AD 2006-0152 requires compliance with Eurocopter Alert Service Bulletin (ASB) No. 32.00.18, Revision 1, dated March 27, 2006, or later revisions. AD 2006-0152 supersedes Direction Generale de L'Aviation Civile France AD No. F-2005-100, dated June 22, 2005 (AD No. F-2005-100), which required compliance with ASB No. 32.00.18, any approved revision.

FAA's Determination

These helicopter models have been approved by the aviation authority of France and are approved for operation in the United States. Pursuant to our bilateral agreement with France, EASA, its technical representative, has notified us of the unsafe condition described above. We are proposing this AD because we evaluated all known relevant information and determined that an unsafe condition exists and is likely to exist or develop on other products of these same type designs.

Related Service Information

We reviewed Eurocopter ASB No. 32.00.18, Revision 2, dated July 12, 2010, for Model AS332C, AS332C1, AS332L, and AS332L1 helicopters and military Model AS332B, AS332B1, AS332M, AS332M1, AS332F1 helicopters with the specified control panel 33G. That ASB states that electrical interferences on the solenoid valve power supply line have caused untimely retraction of the main landing gear, causing helicopters to sink, resulting in damage to the front section of the helicopter's bottom structure. The ASB describes procedures for modifying the main landing gear control tab on the control panel 33G, replacing the fixed connector on the control panel 33G, replacing the removable connector on the corresponding wiring, and testing the affected systems to ensure that these modifications function correctly. The ASB states that these actions are intended to prevent untimely power supply to the solenoid valve when the main landing gear control tab is on “extended” and to avoid main landing gear retraction. AD No. 2006-0152 classified portions of the ASB as mandatory.

Proposed AD Requirements

This proposed AD would require, within 90 days, modifying the control panel 33G, connector 100G, and wiring, and determining that these modifications are functioning correctly by conducting specific tests. The proposed actions would be accomplished in accordance with the specified portions of the ASB No. 32.00.18, Revision 2, dated July 12, 2010.

Differences Between This Proposed AD and the EASA AD

This proposed AD differs from the EASA AD as follows:

• This proposed AD requires compliance within 90 days, while the EASA AD requires compliance within 3 months. The EASA AD also addresses spare parts, and this proposed AD does not address spare parts.

• The EASA AD requires a repeat of the tests for helicopters that have been modified in compliance with AD F-2005-100, and this proposed AD does not.

• The EASA AD also applies to the Model AS332C1 helicopter, and this proposed AD does not because this model does not have an FAA-issued type certificate.

Costs of Compliance

We estimate that this proposed AD would affect three helicopters of U.S. registry. We estimate the following costs to comply with this proposed AD:

We estimate that modification of the control panel, connector, and wiring would take one work hour to complete at $85 per hour, and that parts would cost $293. Performing function tests would take about 4.5 hours to complete, for a total labor cost of $383. Thus, we estimate a total cost per helicopter of $761, and a total cost of $2,283 for the fleet.

We do not control warranty coverage. Accordingly, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by Reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new Airworthiness Directive (AD):

Eurocopter France (Eurocopter): Docket No. FAA-2012-1015; Directorate Identifier 2007-SW-069-AD.

(a) Applicability

This AD applies to Eurocopter Model AS332C, AS332L, and AS332L1 helicopters not modified per modification (MOD) 0723817, MOD 0725670, MOD 332P083218 or MOD 332A088381, with a main landing gear control panel (control panel) 33G, part number (P/N) 332A67-1623-00, -06, -0610, or -0651; certificated in any category.

(b) Unsafe Condition

This AD is defines the unsafe condition as an uncommanded landing gear retraction, which could cause the helicopter nose to drop and hit the ground while the rotor blades are spinning.

(c) Compliance

You are responsible for performing each action required by this AD within the specified compliance time unless it has already been accomplished prior to that time.

(d) Required Actions

Within 90 days, modify the control panel 33G and connector 100G, route the 1GA5103E wiring, and perform the tests in accordance with the Accomplishment Instructions, Paragraphs 2.B 2.a. through 2.B.3.d., and as depicted in Figures 1 and 2, of Eurocopter Alert Service Bulletin No 32.00.18, Revision 2, dated July 12, 2010.

(e) Alternative Methods of Compliance (AMOC)

(1) The Manager, Rotorcraft Directorate, Safety Management Group, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) For operations conducted under a 14 CFR part 119 operating certificate or under 14 CFR part 91, subpart K, we suggest that you notify your principal inspector, or lacking a principal inspector, the manager of the local flight standards district office or certificate holding district office before operating any aircraft complying with this AD through an AMOC.

(f) Additional Information

(1) For service information identified in this proposed AD, contact American Eurocopter Corporation, 2701 N. Forum Drive, Grand Prairie, TX 75052, telephone (972) 641-0000 or (800) 232-0323, fax (972) 641-3775, or at http://www.eurocopter.com/techpub. You may review a copy of the referenced service information at the FAA, Office of the Regional Counsel, 2601 Meacham Blvd., Room 663, Fort Worth, Texas 76137.

(2) The subject of this AD is addressed in the European Aviation Safety Agency AD No. 2006-0152, dated May 30, 2006.

(g) Subject

Joint Aircraft Service Component (JASC) Code: 3230, landing gear retract/extend system.

Issued in Fort Worth, Texas, on September 14, 2012.
Lance T. Gant,
Acting Manager, Rotorcraft Directorate, Aircraft Certification Service.

[FR Doc. 2012-23460 Filed 9-24-12; 8:45 am]

BILLING CODE 4910-13-P